DEPARTMENT OF HEALTH AND HUMAN SERVICES

Office of the Secretary; Office of Medicare Hearings and Appeals; Statement of Organization, Functions, and Delegations of Authority

Part A, Office of the Secretary, Statement of Organization, Functions, and Delegations of Authority for the Department of Health and Human Services, is being amended at Chapter AK, Office of Medicare Hearings and Appeals (OMHA), as last amended at 70 FR 36386-36387, dated June 23, 2005, and most recently at 76 FR 19995 (Apr. 11, 2011) as follows:

I. Under Section AK.10, Organization, delete the bullets and sub-bullets after the phrase, “OMHA consists of the following components,” and replace with the following:

• Medicare Hearings and Appeals Chief Judge's Office (CJO) (Headquarters Office)

— Office of Operations

— Office of Programs

• Medicare Hearings and Appeals Field Offices

II. Under Section AK.20, Functions, Paragraph B, replace “Medicare Hearings and Appeals Field Offices (AKB1-4)” with “Medicare Hearings and Appeals Field Offices.”

III. Under Section AK.20, Functions, Paragraph B, “Medicare Hearings and Appeals Field Offices,” replace all references to the “Managing Administrative Law Judge (MALJ)” with “Associate Chief Administrative Law Judge (ACALJ).”

Dated: January 13, 2015.
E.J. Holland, Jr.,
Assistant Secretary for Administration (ASA).

[FR Doc. 2015-00743 Filed 1-16-15; 8:45 am]

BILLING CODE 4150-24-P